FEDERAL COMMUNICATIONS COMMISSION

[OMB 3060-0767]

Information Collection Approved by the Office of Management and Budget (OMB)

AGENCY: Federal Communications Commission.

ACTION: Notice.

SUMMARY: The Federal Communications Commission (FCC) has received Office of Management and Budget (OMB) approval for a revision of a currently approved public information collection pursuant to the Paperwork Reduction Act of 1995. An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Cathy Williams, Office of the Managing Director, at (202) 418-2918, or email: Cathy.Williams@fcc.gov.

SUPPLEMENTARY INFORMATION: The total annual reporting burdens and costs for the respondents are as follows:

OMB Control Number: 3060-0767.

OMB Approval Date: May 25, 2017.

OMB Expiration Date: May 31, 2020.

Title: Sections 1.2110, 1.2111 and 1.2112, Auction and Licensing Disclosures—Ownership and Designated Entity Status.

Form Number: N/A.

Respondents: Business or other for profit entities, not-for-profit institutions, and State, local or Tribal governments.

Number of Respondents and Responses: 310 respondents; 310 responses.

Estimated Time per Response: 0.50 hours to 2 hours.

Frequency of Response: On occasion reporting requirement, recordkeeping requirement and third party disclosure reporting requirement.

Obligation to Respond: Required to obtain or retain benefits. Statutory authority for this information collection is contained in Sections 154(i) and 309(j) of the Communications Act of 1934, as amended, 47 U.S.C. 4(i) and 309(j)(5).

Total Annual Burden: 470 hours.

Total Annual Cost: $31,500.

Nature and Extent of Confidentiality: The Commission is not requesting that respondents submit confidential information to the Commission as part of this information collection. However, to the extent a respondent wishes to request confidential treatment of information submitted in response to this collection, it may do so in accordance with section 0.459 of the Commission's rules, 47 CFR 0.459.

Privacy Act Impact Assessment: No impact(s).

Needs and Uses: In FCC 15-80, Updating Part 1 Report and Order, the Commission updated many of its Part 1 competitive bidding rules. Among other things, the Commission amended its definition of “designated entities” to include “eligible rural service providers,” and established a new designated entity benefit/bidding credit for eligible rural service providers.

Beginning first on May 5, 1997, OMB approved under OMB Control No. 3060-0767, the Commission's collections of information pursuant to sections 1.2110, 1.2111, and 1.2112 of the Commission's rules, 47 CFR 1.2110, 1.2111, and 1.2112, and their predecessors, regarding ownership and designated entity status of parties involved with Commission licenses. The Commission collects this information in several contexts, including when determining the eligibility of applicants to participate in Commission auctions (including eligibility to claim designated entity benefits), the eligibility of parties to hold a Commission license/authorization (including eligibility for designated entity benefits), the eligibility of parties to whom licenses/authorizations are being assigned or transferred, and the repayment by license/authorization holders of the amount of bidding credits received in Commission auctions to avoid unjust enrichment. Applicants and licensees/authorization holders claiming eligibility for designated entity status are subject to audits and a record-keeping requirement regarding FCC-licensed service concerning such claims of eligibility, to confirm that their representations are, and remain, accurate.

The collection of this information will enable the Commission to determine whether applicants are qualified to bid on and hold Commission licenses/authorizations and, if applicable, to receive designated entity benefits, and is designed to ensure the fairness of the auction, licensing, and license/authorization assignment and transfer processes. The information collected will be reviewed and, if warranted, referred to the Commission's Enforcement Bureau for possible investigation and administrative action. The Commission may also refer allegations of anticompetitive auction conduct to the Department of Justice for investigation.

OMB has approved separately the routine collections of information pursuant to these Commission rules in applications to participate in Commission auctions, FCC Form 175, OMB Control No. 3060-0600, and in Commission licensing applications, FCC Form 601, OMB Control No. 3060-0798, and assignment/transfer of control applications, FCC Form 603, OMB Control No. 3060-0800. On occasion, the Commission may collect information from auction applicants and license/authorization holders pursuant to these rules under this information collection to clarify information provided in these forms or in circumstances to which the standard forms may not directly apply.

Federal Communications Commission.
Marlene H. Dortch,
Secretary.

[FR Doc. 2017-13082 Filed 6-22-17; 8:45 am]

BILLING CODE 6712-01-P